GENERAL SERVICES ADMINISTRATION

[Notice-MRB-2023-03; Docket No. 2023-0001; Sequence No. 22]

Regulatory Information Systems Center; Announcement of Public Listening Sessions

AGENCY: Office of Government-wide Policy, General Services Administration (GSA).

ACTION: Notice.

SUMMARY: To assist with the Regulatory Information website (Reginfo.gov) user experience research, the Regulatory Information Systems Center (RISC) will be hosting public listening sessions. The purpose of these listening sessions is to collect public input on the usability of Reginfo.gov. In turn, RISC will use the input to inform future enhancements to Reginfo.gov.

DATES: RISC will hold web-based public listening sessions on Tuesday, August 8, 2023, from 1:00 p.m. to 3:00 p.m. Eastern Standard Time (EST) and on Thursday, August 10, 2023, from 10 a.m. to 12:00 p.m. EST.

ADDRESSES: The virtual listening sessions will be open to the public and held via the Zoom Webinar Platform. Virtual attendance information will be provided upon registration. Registration information is located on Eventbrite: https://www.eventbrite.com/e/risc-presents-reginfo-public-comment-session-tickets-668851050497.

In addition to the listening sessions, written public comments are being accepted via email. To submit a written public comment, send an email to risc@gsa.gov. Please include “Reginfo.gov Public Comment” in the subject line. In the body of the email, please include your name, company name (if applicable), and years of Reginfo.gov usage.

FOR FURTHER INFORMATION CONTACT: Please contact Mr. Wesley Weston, Senior Program Analyst, RISC, 202-251-7769 or by email at wesley.weston@gsa.gov.

SUPPLEMENTARY INFORMATION:

Background

Reginfo.gov assists users who want to find federal regulatory information and provides a variety of graphical displays constituting a “Regulatory Dashboard.” Users can select and identify rules under review by agency, economic significance, stage of rulemaking, or other characteristics, and compare the results for different agencies.

Reginfo.gov provides information on the following areas:

• Federal regulatory agendas and regulatory plans to include brief synopsis and timetables for action on rules that Federal departments and agencies are considering.

• Rules under review by the Office of Information and Regulatory Affairs (OIRA) prior to initial publication or final adoption are listed.

• OIRA reviews of information collections, such as forms and surveys, under the Paperwork Reduction Act (PRA), are listed together with a complete inventory of currently approved information collections.

Reginfo.gov gives the public searchable access to this information to make more transparent the activities of OIRA and Federal agencies in rulemaking and information collection.

Specifically, RISC invites public comment on the following questions:

1. On the homepage, do you find the visual graphs helpful? If not, what other tool would you recommend to present the information?

2. How do you feel about the overall navigation of the site? Do you feel the main navigation covers what you are looking for when visiting the site?

3. Do you find the current search options useful? Have you had difficulty using the search option based on its current location?

4. Do you feel the “Contact us” information or “Getting help” is easily found when visiting the site?

5. Have you been able to find answers to questions you were looking for? Did you have to use another site? Please explain.

6. How would you like real time information presented?

7. Have you used the mobile app which is available to both android and IOS users? If so, what has been your experience with the app?

8. Overall, what information is missing when visiting this site?

9. Overall, what improvements would you suggest to make the site better?

Meeting Registration

This meeting is open to the public and will be accessible by webcast. All public attendees will need to register to obtain the meeting webcast information. All registrants will be asked to provide their name, affiliation, and email address. After registration, individuals will receive webcast access information via email.

Public Participation

The public listening sessions will start at 1:00 p.m. EST, on August 8, 2023, and 10:00 a.m. EST on August 10, 2023. The RISC team first will provide opening remarks. The meetings will then transition to public comments. Any oral comments presented should be brief and limited to the subjects described in this Notice so all participants will have an opportunity to speak.

Members of the public who wish to present oral comments must notify RISC no later than Monday, August 7, 2023, via email at risc@gsa.gov. The email should (1) identify specific subject(s) on which you wish to provide comments; and (2) state the organization or entity you are representing or that you are speaking as a member of the public.

Boris Arratia,
Regulatory Information Service Center Director, Office of Government-wide Policy.

[FR Doc. 2023-14842 Filed 7-12-23; 8:45 am]

BILLING CODE 6820-27-P